INTERNATIONAL TRADE COMMISSION

[USITC SE-09-024]

Government in the Sunshine Act Meeting Notice

AGENCY HOLDING THE MEETING: United States International Trade Commission.

TIME AND DATE: August 21, 2009 at 2 p.m.

Place: Room 101, 500 E Street SW., Washington, DC 20436, Telephone: (202) 205-2000.

STATUS: Open to the public.

MATTERS TO BE CONSIDERED:

1. Agenda for future meetings: None.

2. Minutes.

3. Ratification List.

4. Inv. Nos. 701-TA-467 and 731-TA-1164-1165 (Preliminary) (Narrow Woven Ribbons with Woven Selvedge from China and Taiwan)—briefing and vote. (The Commission is currently scheduled to transmit its determinations to the Secretary of Commerce on or before August 24, 2009; Commissioners' opinions are currently scheduled to be transmitted to the Secretary of Commerce on or before August 31, 2009.)

5. Outstanding action jackets: none.

In accordance with Commission policy, subject matter listed above, not disposed of at the scheduled meeting, may be carried over to the agenda of the following meeting. Earlier announcement of this meeting was not possible.

Issued: August 11, 2009.
By order of the Commission.
William R. Bishop,
Hearings and Meetings Coordinator.

[FR Doc. E9-19554 Filed 8-11-09; 4:15 pm]

BILLING CODE 7020-02-P